DEPARTMENT OF THE INTERIOR

National Park Service

General Management Plans, Draft Environmental Impact Statements, Sunset Crater Volcano, Walnut Canyon, and Wupatki National Monuments, Arizona

AGENCY: National Park Service, Department of the Interior.

ACTION: Availability of draft environmental impact statements and general management plans for Sunset Crater Volcano, Walnut Canyon, and Wupatki National Monuments.

SUMMARY: Pursuant to section 102(2)(C) of the National Environmental Policy Act of 1969, the National Park Service announces the availability of draft Environmental Impact Statements and General Management Plans (DEIS/GMP) for Sunset Crater Volcano, Walnut Canyon, and Wupatki National Monuments, Arizona.

Dates: The DEIS/GMPs will remain available for public review on or after January 7, 2002. No public meetings are scheduled at this time.

Comments: If you wish to comment, you may submit your comments by any one of several methods. You may mail comments to Superintendent, Flagstaff Area National Monuments, 6400 N. Hwy 89, Flagstaff, Arizona 80004. You may also comment via the Internet to FLAG_GMPS@nps.gov. Please submit Internet comments either as an ASCII file avoiding the use of special characters and any form of encryption, as a Microsoft Word file, or as a Word Perfect file. Please also include your name and return address in your Internet message. If you do not receive a confirmation from the system that we have received your Internet message, contact us directly by calling Christine Maylath at 303-969-2851. Finally, you may hand-deliver comments to Intermountain Support Office-Denver, 12795 W. Alameda Parkway, Lakewood, CO (room 20) or to the park address above. Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

Addresses: Copies of the DEIS/GMP are available from the Superintendent, Flagstaff Area National Monuments, 6400 N. Highway 89, Flagstaff, Arizona. Public reading copies of the DEIS/GMP will be available for review at the following locations:

Office of the Superintendent, Flagstaff Area National Monuments, 6400 N. Hwy 89, Flagstaff, Arizona 80004, Telephone: 928-526-1157

Planning and Environmental Quality, Intermountain Support Office—Denver, National Park Service, 12795 W. Alameda Parkway, Lakewood, CO 80228, Telephone: (303) 969-2851

Office of Public Affairs, National Park Service, Department of Interior, 18th and C Streets NW., Washington, DC 20240, Telephone: (202) 208-6843

Supplementary Information: These general management plans will guide the management of the Sunset Crater Volcano, Walnut Canyon, and Wupatki National Monuments for the next 10 to 15 years. The Sunset Crater Volcano DEIS/GMP considers four alternatives—a no-action and three action alternatives, including the NPS preferred alternative. The preferred alternative would provide increased educational opportunities and diverse experiences both within and outside of park boundaries. The park would be viewed as a destination for education and learning. Partnerships with the U.S. Forest Service, affiliated tribes, and educational institutions would provide interpretation and more consistent management of sites and features outside the park that are primary to the park's purpose. Boundaries would be adjusted for ease of management and to better protect geologic features. Most existing uses would continue. The park would remain day-use only, with 24-hour access on FR545, and visitor use would be spread throughout more resources. A new multiagency visitor center would be built near US89 to serve as the primary location to orient and serve visitors, and the existing visitor center would be adapted for use as an education center.

Three alternatives were considered in the Walnut Canyon DEIS/GMP—a no-action and two action alternatives, including the NPS preferred alternative. The preferred alternative would preserve untrailed expanses, unfragmented natural systems, and relatively pristine conditions throughout much of the park. It would protect Walnut Canyon as a critical wildlife corridor. Visitation would be managed with the goal of providing quality learning opportunities in an intimate atmosphere while maintaining the health of the canyon ecosystem. The natural soundscape and tranquil setting of the canyon would be enhanced through strategic placement of facilities. The park would remain day-use only, with recreational uses of the western end prohibited. Efforts would be made to provide a broader range of educational offerings, and a greater number of archeological sites would be available for visitation.

The Wupatki DEIS/GMP considers five alternatives—a no-action and four action alternatives, including the NPS preferred alternative. The preferred alternative would include significant resources and landscapes north of the park within park boundaries, retain existing motorized sightseeing, focus on existing major visitor use areas, provide visitor orientation at the existing visitor center and at a new contact station at the north entrance, and diversify visitor experiences via new trails, new interpretive media and activities, and guided hikes to some cultural sites.

All three environmental impact statements assess impacts to archeological resources; historic character of the built environment; long-term integrity of ethnographic resources, natural systems and processes, and geological resources; threatened, endangered, and sensitive species; visitors' ability to experience park resources; park neighbors, local, state, and tribal land management plans and land/resource managing agencies; and operational efficiency.

For Further Information: Contact Superintendent, Flagstaff Area National Monuments at the above address and telephone number.

Dated: August 30, 2001.
Michael Sunder,
Acting Director, Intermountain Region, National Park Service.

[FR Doc. 01-27761 Filed 11-5-01; 8:45 am]

BILLING CODE 4310-70-P